Title 3—

The President

Memorandum of February 9, 2010

Establishing a Task Force on Childhood Obesity

Memorandum for the Heads of Executive Departments and Agencies

Across our country, childhood obesity has reached epidemic rates and, as a result, our children may live shorter lives than their parents. Obesity has been recognized as a problem for decades, but efforts to address this crisis to date have been insufficient. My Administration is committed to redoubling our efforts to solve the problem of childhood obesity within a generation through a comprehensive approach that builds on effective strategies, engages families and communities, and mobilizes both public and private sector resources.

Nearly one third of children in America are overweight or obese—a rate that has tripled in adolescents and more than doubled in younger children since 1980. One third of all individuals born in the year 2000 or later will eventually suffer from diabetes over the course of their lifetime, while too many others will face chronic obesity-related health problems such as heart disease, high blood pressure, cancer, and asthma. Without effective intervention, many more children will endure serious illnesses that will put a strain on our health-care system. We must act now to improve the health of our Nation's children and avoid spending billions of dollars treating preventable disease.

Therefore, I have set a goal to solve the problem of childhood obesity within a generation so that children born today will reach adulthood at a healthy weight. The First Lady will lead a national public awareness effort to tackle the epidemic of childhood obesity. She will encourage involvement by actors from every sector—the public, nonprofit, and private sectors, as well as parents and youth—to help support and amplify the work of the Federal Government in improving the health of our children. But to meet our goal, we must accelerate implementation of successful strategies that will prevent and combat obesity. Such strategies include updating child nutrition policies in a way that addresses the best available scientific information, ensuring access to healthy, affordable food in schools and communities, as well as increasing physical activity and empowering parents and caregivers with the information and tools they need to make good choices for themselves and their families. To succeed, these efforts must be strategically targeted, and accountability should be clear. They will help our children develop lifelong healthy habits, ensuring they reach their greatest potential toward building a healthier and more prosperous America. To these ends, I hereby direct the following:

Section 1. Establishment of the Task Force on Childhood Obesity. There is established a Task Force on Childhood Obesity (Task Force) to develop an interagency action plan to solve the problem of obesity among our Nation's children within a generation. The Assistant to the President for Domestic Policy shall serve as Chair of the Task Force.

(a) Membership of the Task Force. In addition to the Chair, the Task Force shall consist of the following members, or any senior official designated by one of the following members who is a part of the member's department, agency, or office, and who is a full time officer or employee of the Federal Government:

(1) the Secretary of the Interior;

(2) the Secretary of Agriculture;

(3) the Secretary of Health and Human Services;

(4) the Secretary of Education;

(5) the Director of the Office of Management and Budget;

(6) the Assistant to the President and Chief of Staff to the First Lady;

(7) the Assistant to the President for Economic Policy; and

(8) the heads of other executive departments, agencies, or offices as the Chair may designate.

At the direction of the Chair, the Task Force may establish subgroups consisting exclusively of Task Force members or their designees under this section, as appropriate.

(b) Administration of the Task Force. The Department of Health and Human Services shall provide funding and administrative support for the Task Force to the extent permitted by law and within existing appropriations.

Sec. 2. Mission and Functions of the Task Force. The Task Force shall work across executive departments and agencies to develop a coordinated Federal response while also identifying nongovernmental actions that can be taken to solve the problem of childhood obesity within a generation. The functions of the Task Force are advisory only and shall include, but are not limited to, making recommendations to meet the following objectives:

(a) ensuring access to healthy, affordable food;

(b) increasing physical activity in schools and communities;

(c) providing healthier food in schools; and

(d) empowering parents with information and tools to make good choices for themselves and their families.

Sec. 3. Interagency Action Plan. Within 90 days of the date of this memorandum, the Task Force shall develop and submit to the President a comprehensive interagency plan that:

(a) details a coordinated strategy by executive departments and agencies to meet the objectives of the Task Force and identifies areas for reform to ensure complementary efforts and avoid duplication, both across the Federal Government and between other public or nongovernmental actors;

(b) includes comprehensive, multi-sectoral strategies from each member executive department, agency, or office and describes the status and scope of its efforts to achieve this goal;

(c) identifies key benchmarks and provides for regular measurement, assessment, and reporting of executive branch efforts to combat childhood obesity;

(d) describes a coordinated action plan for identifying relevant evidence gaps and conducting or facilitating needed research to fill those gaps;

(e) assists in the assessment and development of legislative, budgetary, and policy proposals that can improve the health and well-being of children, their families, and communities; and

(f) describes potential areas of collaboration with other public or nongovernmental actors, taking into consideration the types of implementation or research objectives the Federal Government, other public actors, or nongovernmental actors may be particularly well-situated to accomplish.

Sec. 4. Outreach. Consistent with the objectives set out in this memorandum, the Task Force, in accordance with applicable law, and in addition to regular meetings, shall conduct outreach with representatives of private and nonprofit organizations, State, tribal and local authorities, and other interested persons that can assist with the Task Force's development of a detailed set of recommendations to solve the problem of childhood obesity.

Sec. 5. General Provisions. (a) The heads of executive departments and agencies shall assist and provide information to the Task Force, consistent with applicable law, as may be necessary to carry out the functions of the Task Force. Each executive department, agency, and office shall bear its own expense for participating in the Task Force.

(b) Nothing in this memorandum shall be construed to impair or otherwise affect:

(i) authority granted by law to an executive department, agency, or the head thereof; or

(ii) functions of the Director of the Office of Management and Budget relating to budgetary, administrative, or legislative proposals.

(c) This memorandum shall be implemented consistent with applicable law and subject to the availability of appropriations.

(d) This memorandum is not intended to, and does not, create any right or benefit, substantive or procedural, enforceable at law or in equity by any party against the United States, its departments, agencies, or entities, its officers, employees, or agents, or any other person.

Sec. 6. Publication. The Secretary of Health and Human Services is authorized and directed to publish this memorandum in the Federal Register.

THE WHITE HOUSE,

WASHINGTON, February 9, 2010

[FR Doc. 2010-3220

Filed 2-17-10; 8:45 am]

Billing code 4110-60-P